DEPARTMENT OF COMMERCE

Foreign-Trade Zones Board

Order No. 1510

Approval for Expansion of Subzone 208A, and of Expanded Manufacturing Authority, Pfizer Inc (Pharmaceutical Products), Groton, Connecticut

Pursuant to its authority under the Foreign-Trade Zones Act of June 18, 1934, as amended (19 U.S.C. 81a-81u), the Foreign-Trade Zones Board (the Board) adopts the following Order:

Whereas, the New London Foreign Trade Zone Commission, grantee of FTZ 208, has requested authority on behalf of Pfizer Inc (Pfizer) to expand the subzone and scope of manufacturing authority at Subzone 208A at the Pfizer pharmaceutical manufacturing plant in Groton, Connecticut (FTZ Docket 31-2006, filed 7/20/06);

Whereas, notice inviting public comment has been given in the Federal Register (71 FR 43107, 7/31/06); and,

Whereas, the Board adopts the findings and recommendations of the examiner's report, and finds that the requirements of the FTZ Act and the Board's regulations are satisfied, and that approval of the application is in the public interest;

Now, therefore, the Board hereby approves the expansion of the subzone and the scope of authority under zone procedures within Subzone 208A for the manufacture of pharmaceutical products at the Pfizer Inc plant located in Groton, Connecticut, as described in the application and the Federal Register notice, subject to the FTZ Act and the Board's regulations, including Section 400.28.

Signed at Washington, DC, this 10th day of April 2007.

David M. Spooner,
Assistant Secretary of Commerce For Import Administration, Alternate Chairman, Foreign-Trade Zones Board.
Attest:
Andrew McGilvray,
Executive Secretary.

[FR Doc. E7-7596 Filed 4-19-07; 8:45 am]

BILLING CODE 3510-DS-S